GENERAL SERVICES ADMINISTRATION

[GSA Bulletin FRM B-1]

Personal Property

This notice contains GSA Bulletin FMR B-1 which announces a new provider for official U.S. Government license plates and clarifies changes in the way official identification is displayed on motor vehicles. The text of the bulletin follows:

To: Heads of Federal agencies.

Subject: Acquisition and display of official U.S. Government licence plates and other motor vehicle identification.

1. What is the purpose of this bulletin? This bulletin announces a new provider for official U.S. Government license plates and clarifies changes in the way official identification is displayed on motor vehicles.

2. What is the effective date of this bulletin? This bulletin is effective October 25, 2001.

3. What is the expiration date of this bulletin? This bulletin expires October 25, 2002.

4. What is the background to this announcement?

a. The previous supplier of official U.S. Government license plates, the District of Columbia Department of Correction, Lorton Prison, stopped taking license plate orders on June 30, 2001. The new supplier, Federal Prison Industries, Inc. (UNICOR), started taking license plate orders on July 1, 2001. Actual production of license plates at the UNICOR facility will begin on or about September 15, 2001.

b. Subsection 211(k) of the Federal Property and Administrative Services Act of 1949, as amended, requires motor vehicles owned or leased by the Government to display official U.S. Government identification. Sections 102-34.110 and 102-34.120 of the Federal Management Regulation (FMR) implemented this section of the Property Act, providing for placement and size of this identification.

c. On June 21, 2001, the General Services Administration's (GSA) Office of Governmentwide Policy entered into a Memorandum of Understanding (MOU) with UNICOR for the production of license plates for Federal agencies. Prior to entering into the MOU, GSA's Office of Governmentwide Policy obtained a waiver from the provisions of sections 102-34.110 through 102-34.120 and 102-34.170 of the FMR. This Memorandum of Understanding and FMR waiver were coordinated through the Federal Fleet Policy Council, obtaining the approval of all agencies operating motor vehicle fleets.

d. The MOU between GSA and UNICOR and the FMR waiver allow changes to the way license plates are produced in order to increase the security of Federal license plates and eliminate the need for identification decals in the rear windows of motor vehicles owned or leased by the Government.

5. What does the new license plate look like? The new license plates will have the following characteristics:

a. The plate will be flat and digitally produced with an embossed flange rim.

b. The plate will have a reflective sheeting similar to most regular State-issued license plates.

c. The plate will have a security reflective watermark consistent on all plates (repeating the phrase “U.S. Government”) and a hologram positioned vertically down the center (an American eagle).

d. The plate will contain Federal agency or bureau identification that readily identifies the vehicle's owner.

6. What must agencies do to order license plates? All Federal agencies must execute an addendum to the MOU between GSA and UNICOR. Agencies will prepare only one addendum listing all bureaus, departments, districts, etc. authorized to order license plates. This addendum will provide UNICOR with specific ordering and payment information, and include, at a minimum, the following information:

a. Agency name.

b. Agency code.

c. Point of contact.

d. Mailing address.

e. Telephone number.

f. Email address.

g. Anticipated annual need.

h. Personnel authorized to order license plates.

i. Invoicing and billing information.

j. Shipping instructions.

k. Graphic description of agency information on license plates.

7. Can a Federal agency or activity order license plates without completing an addendum to the Memorandum of Understanding? No.

8. What activities may order and receive shipments of license plates? Only Federal agencies or activities may order or receive shipments of official U.S. Government license plates.

9. What procedures should agency field activities follow when ordering license plates? Agency field activities should contact their agency (national level) Fleet Manager for guidance.

10. What is the point of contact at UNICOR?

Mr. Abraham Burgos, Program Manager, U.S. Department of Justice, UNICOR Federal Prison Industries, Inc., 400 First Street, NW., Room 6010, Washington, DC 20534, (202) 305-3752, aburgor@central.unicor.gov

11. Who do I contact if I still have questions?

Mr. Michael Moses, Team Leader, General Services Administration, Office of Governmentwide Policy, Federal Vehicle Policy Division (MTV), 1800 F Street, NW., Room G241, Washington, DC 20405, (202) 501-2507, mike.moses@gsa.gov

G. Martin Wagner,
Associate Administrator for Governmentwide Policy.

[FR Doc. 01-26929 Filed 10-24-01; 8:45 am]

BILLING CODE 6820-14-M